NEIGHBORHOOD REINVESTMENT CORPORATION

Neighborworks® America Twenty-Ninth Annual Board of Directors Meeting; Sunshine Act

TIME AND DATE: 2 p.m., Wednesday, June 27, 2007.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. Call To Order.

II. Approval of the Minutes.

III. Summary Report of the Corporate Administration Committee.

IV. Summary Report of the Finance, Budget and Program Committee.

V. Financial Report.

VI. Emergency Executive Succession Plan.

VII. Draft Delegation of Authority to CEO.

VIII. Chief Executive Officer's Quarterly Management Report.

IX. Adjournment.

Erica Hall,
Assistant Corporate Secretary.

[FR Doc. 07-3105 Filed 6-20-07; 3:55 pm]

BILLING CODE 7570-02-M